NUCLEAR REGULATORY COMMISSION

[NRC-2020-0255]

Implementation of Aging Management Requirements for Spent Fuel Storage Renewals

AGENCY: Nuclear Regulatory Commission.

ACTION: Regulatory guide; issuance.

SUMMARY: The U.S. Nuclear Regulatory Commission (NRC) is issuing a new Regulatory Guide (RG) 3.76 (Revision 0), “Implementation of Aging Management Requirements for Spent Fuel Storage Renewals.” This new guidance describes an approach that is acceptable to the staff of the NRC to meet the regulatory requirements for spent fuel storage renewals. It addresses requirements for the renewal of specific licenses for independent spent fuel storage installations (ISFSIs) and certificates of compliance (CoCs) for spent fuel storage cask designs pursuant to NRC requirements.

DATES: Revision 0 to RG 3.76 is available on July 21, 2021.

ADDRESSES: Please refer to Docket ID NRC-2020-0255 when contacting the NRC about the availability of information regarding this document. You may obtain publicly available information related to this document using any of the following methods:

• Federal Rulemaking Website: Go to https://www.regulations.gov and search for Docket ID NRC-2020-0255. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine, and order copies of public documents is currently closed. You may submit your request to the PDR via email at pdr.resource@nrc.gov or call 1-800-397-4209 or 301-415-4737, between 8:00 a.m. and 4:00 p.m. (ET), Monday through Friday, except Federal holidays.

Revision 0 to RG 3.76 and the regulatory analysis may be found in ADAMS under Accession Nos. ML21098A022 and ML20282A299, respectively.

Regulatory guides are not copyrighted, and NRC approval is not required to reproduce them.

FOR FURTHER INFORMATION CONTACT: Kristina Banovac, telephone: 301-415-7116, email: Kristina.Banovac@nrc.gov, and Harriet Karagiannis, telephone: 301-415-2493, email: Harriet.Karagiannis@nrc.gov. Both are staff of the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 0 of RG 3.76 was issued with a temporary identification of Draft Regulatory Guide, DG-3055. It describes an approach that is acceptable to the staff of the NRC by endorsing, with clarifications, the Nuclear Energy Institute (NEI) guidance in NEI 14-03, Revision 2, “Format, Content and Implementation Guidance for Dry Cask Storage Operations-Based Aging Management,” issued December 2016.

II. Additional Information

The NRC published a notice of the availability of DG-3055 (ADAMS Accession No. ML20282A298), in the Federal Register on December 11, 2020 (85 FR 80193), for a 45-day public comment period. The public comment period closed on January 25, 2021. The staff received one public comment submission on DG-3055.

This RG is a new RG 3.76 that describes an approach that is acceptable to the staff of the NRC by endorsing, with clarifications, the Nuclear Energy Institute (NEI) guidance in NEI 14-03, Revision 2, “Format, Content and Implementation Guidance for Dry Cask Storage Operations-Based Aging Management,” issued December 2016.

This new RG provides guidance to industry for complying with and implementing the requirements for spent fuel storage renewals in Part 72 of title 10 of the Code of Federal Regulations (10 CFR), “Licensing Requirements for the Independent Storage of Spent Nuclear Fuel, High-Level Radioactive Waste, and Reactor-Related Greater Than Class C Waste.” This guidance addresses renewal of ISFSI specific licenses and CoCs for spent fuel storage cask designs in 10 CFR 72.42, “Duration of license; renewal,” and 10 CFR 72.240, “Conditions for spent fuel storage cask renewal,” respectively.

The guidance specifically addresses the format and content of spent fuel storage renewal applications and the implementation of aging management programs (AMPs). The guidance uses an operations-focused approach to aging management, in which operating experience is shared through an industry database and continually assessed to adjust AMPs, as needed and within regulatory limits, to ensure the effectiveness of aging management activities during the period of extended operation and the continued safe storage of spent fuel.

III. Congressional Review Act

This RG is a rule as defined in the Congressional Review Act (5 U.S.C. 801-808). However, the Office of Management and Budget has not found it to be a major rule as defined in the Congressional Review Act.

IV. Backfitting, Forward Fitting, and Issue Finality

This regulatory guide, RG 3.76, endorses, with clarifications, NEI 14-03, which provides guidance on the format and content of spent fuel storage renewal applications and implementation of aging management programs under 10 CFR part 72. As explained in RG 3.76, licensees are not required to comply with the positions set forth in this regulatory guide. Therefore, RG 3.76 does not constitute backfitting as defined in 10 CFR 72.62, “Backfitting,” and as described in NRC Management Directive (MD) 8.4, “Management of Backfitting, Forward Fitting, Issue Finality, and Information Requests”; or constitute forward fitting as that term is defined and described in MD 8.4. If, in the future, the NRC were to impose a position in RG 3.76 in a manner that would constitute backfitting or forward fitting, then the NRC would address the backfitting provision in 10 CFR 72.62 or the forward fitting provision of MD 8.4, respectively.

Dated: July 15, 2021.
For the Nuclear Regulatory Commission.
Meraj Rahimi,
Chief, Regulatory Guidance and Programs Management Branch, Division of Engineering, Office of Nuclear Regulatory Research.

[FR Doc. 2021-15442 Filed 7-20-21; 8:45 am]

BILLING CODE 7590-01-P